DEPARTMENT OF THE INTERIOR

National Park Service

[NPS-WASO-NAGPRA-NPS0033499; PPWOCRADN0-PCU00RP14.R50000]

Notice of Intent To Repatriate Cultural Items: Museum of Us (formerly the Museum of Man) San Diego, CA

AGENCY: National Park Service, Interior.

ACTION: Notice.

SUMMARY: The Museum of Us (formerly the Museum of Man), in consultation with the appropriate Indian Tribes or Native Hawaiian organizations, has determined that the cultural items listed in this notice meet the definition of unassociated funerary objects and a sacred object. Lineal descendants or representatives of any Indian Tribe or Native Hawaiian organization not identified in this notice that wish to claim these cultural items should submit a written request to the Museum of Us. If no additional claimants come forward, transfer of control of the cultural items to the lineal descendants, Indian Tribes, or Native Hawaiian organizations stated in this notice may proceed.

DATES: Lineal descendants or representatives of any Indian Tribe or Native Hawaiian organization not identified in this notice that wish to claim these cultural items should submit a written request with information in support of the claim to the Museum of Us at the address in this notice by April 11, 2022.

FOR FURTHER INFORMATION CONTACT: Kara Vetter, Director of Cultural Resources, Museum of Us, 1350 El Prado, Balboa Park, San Diego, CA 92101, telephone (619) 239-2001 Ext. 44, email kvetter@museumofus.org.

SUPPLEMENTARY INFORMATION: Notice is here given in accordance with the Native American Graves Protection and Repatriation Act (NAGPRA), 25 U.S.C. 3005, of the intent to repatriate cultural items under the control of the Museum of Us, San Diego, CA, that meet the definition of unassociated funerary objects and a sacred object under 25 U.S.C. 3001.

This notice is published as part of the National Park Service's administrative responsibilities under NAGPRA, 25 U.S.C. 3003(d)(3). The determinations in this notice are the sole responsibility of the museum, institution, or Federal agency that has control of the Native American cultural items. The National Park Service is not responsible for the determinations in this notice.

History and Description of the Cultural Items

On January 31, 1974, three cultural items were removed from site W-493 in Santa Ysabel, San Diego County, CA. Collectors David Reynolds and Paul Brown removed the items from an archeological site on their private property and donated them to the Museum of Us (formerly the Museum of Man). (An interview with Paul Brown indicates that the site “yielded more than a couple of crematory urns,” which are not under the control of the Museum of Us.) The three unassociated funerary objects are one biface, one projectile point, and one piece of historic glass.

On March 6, 1969, 24 cultural items were removed from site W-556 (aka CA-SDI-17377) in La Jolla, San Diego County, CA. Collector Frank Leinhaupel brought the items to the Museum of Us. W-556 lies near W-1 Spindrift, a previously documented site known to contain human remains. Consultation with the Kumeyaay Nation regarding the totality of the circumstances concerning the acquisition of the items supports a determination that these items are unassociated funerary objects. The 24 unassociated funerary objects are 11 groundstone mortars and 13 sinkers.

Sometime between the 1920s and the 1950s, 146 cultural items were removed by Malcolm J. Rogers from site C-44 and C-44A in Calexico, Imperial County, CA. Rogers, a geologist, excavated throughout San Diego and Imperial Counties in the late 1920's and early 1950's on behalf of the Museum of Us (formerly the Museum of Man). The site file documents “two washed out cremations,” neither of which was collected by Rogers. The 146 unassociated objects are one modified faunal bone, two unmodified faunal bones, five decorated ceramic body sherds, 21 decorated ceramic rim sherds, 24 undecorated ceramic body sherds, 88 undecorated ceramic rim sherds, one core tool, one projectile point, one scraper, one chopper, and one battered stone.

Sometime between the 1920s and the 1950s, 164 cultural items were removed by Malcolm J. Rogers from site C-72 (aka IMP-155), near Kane Springs in Imperial County, CA. The site file documents “six washed out cremations,” none of which was collected by Rogers. The 164 unassociated objects are one unmodified faunal bone, 21 decorated ceramic body sherds, 15 decorated ceramic rim sherds, 48 undecorated ceramic body sherds, 39 undecorated ceramic rim sherds, one biface, two choppers, one core tool, 11 projectile points, six scrapers, one utilized flake, three manos, seven modified shells, six unmodified shells, and two battered stones.

Sometime between the 1920s and the 1950s, 125 cultural items were removed by Malcolm J. Rogers from site C-92 (aka IMP-151), near Kane Springs in Imperial County, CA. The site file documents five cremations (“cremation 1 and 2” and “three washed out” cremations). Following an exhaustive search, the Museum of Us has determined that none of the cremated individuals has ever been held by the Museum, and that their whereabouts are unknown. The 124 unassociated funerary objects are two decorated ceramic body sherds, 29 decorated ceramic rim sherds, 18 undecorated ceramic body sherds, 37 undecorated rim sherds, two bifaces, three choppers, one core tool, 17 projectile points, five scrapers, four manos, three unmodified shell, and three battered stones. The one sacred object is a steatite pipe tang.

Sometime between the 1920s and the 1950, 243 cultural items were removed by Malcolm J. Rogers from C-105, C-106, and C-106A, a cluster of archeological sites in Imperial County, CA. The site documents “four washed out cremations,” none of which was collected by Rogers. The 243 unassociated funerary objects are seven unmodified faunal bones, 12 decorated ceramic body sherds, 63 decorated ceramic rim sherds, 47 undecorated ceramic body sherds, 63 undecorated ceramic rim sherds, four bifaces, three choppers, two cores, one stone drill, one projectile point, seven scrapers, eight unworked flakes, 10 utilized flakes, five manos, two metates, three game stones, three modified shells, and two unmodified shells.

Sometime between the 1920s and the 1950s, 195 cultural items were removed by Malcolm J. Rogers from site C-110 in Imperial County, CA. C-110 is situated in close proximity to multiple archeological sites associated with human remains, and the site file documents its cultural significance to the Kumeyaay Nation. Consultation with the Kumeyaay Nation regarding the totality of the circumstances concerning the acquisition of the items supports a determination that these items are unassociated funerary objects. The 195 unassociated funerary objects are one ceramic vessel, 24 decorated ceramic body sherds, 41 decorated ceramic rim sherds, 26 undecorated ceramic body sherds, 82 undecorated ceramic rim sherds, three biface, one core tool, seven scrapers, two utilized flakes, three manos, two pestles, one ecofact, one modified shell, and one battered stone.

Sometime between the 1920s and the 1950s, 208 cultural items were removed by Malcolm J. Rogers from C-111, C-111A, C-118, C-118A and C-118B, a cluster of archeological sites in Imperial County, CA. The site file documents “one washed out cremation,” which was not collected by Rogers. The 208 associated funerary objects are 20 decorated ceramic body sherds, 25 decorated ceramic rim sherds, 44 undecorated ceramic body sherds, 53 undecorated ceramic rim sherds, three bifaces, five core tools, seven projectile points, 12 choppers, seven scrapers, one core tool, two unworked flakes, 11 utilized flakes, seven manos, one pestle, six ecofacts, two unmodified shells, and two battered stones.

Sometime between the 1920s and the 1950s, 252 cultural items were removed by Malcolm J. Rogers from sites C-113, C-113A and C-114, a cluster of archeological sites in Imperial County, CA. The site file documents “one washed out cremation,” which was not collected by Rogers. The 252 associated funerary objects are 12 decorated ceramic body sherds, 41 decorated ceramic rim shreds, 41 undecorated ceramic body sherds, 128 undecorated ceramic rim sherds, three bifaces, four choppers, three scrapers, one core tool, two projectile points, one utilized flake, one unworked flake, four manos, two metates, five modified shells, and four unmodified shells.

Sometime between the 1920s and the 1950s, 216 cultural items were removed by Malcolm J. Rogers from site C-147 in Imperial County, CA. The site file documents “a few un-gathered cremations . . . found by relic hunters,” none of which was collected by Rogers. The 216 associated funerary items are 34 decorated ceramic body sherds, 123 undecorated ceramic body sherds, 40 undecorated ceramic rim sherds, two choppers, two cores, two projectile points, seven scrapers, three historic glass, one ecofact, one modified shell, and one battered stone.

Determinations Made by the Museum of Us

Officials of the Museum of Us have determined that:

• Pursuant to 25 U.S.C. 3001(3)(B), 1,575 of the cultural items described above are reasonably believed to have been placed with or near individual human remains at the time of death or later as part of the death rite or ceremony and are believed, by a preponderance of the evidence, to have been removed from a specific burial site of a Native American individual.

• Pursuant to 25 U.S.C. 3001(3)(C), one of the cultural items described above is a specific ceremonial object needed by traditional Native American religious leaders for the practice of traditional Native American religions by their present-day adherents.

• Pursuant to 25 U.S.C. 3001(2), there is a relationship of shared group identity that can be reasonably traced between all 1,576 cultural items described above and the Campo Band of Diegueno Mission Indians of the Campo Indian Reservation, California; Capitan Grande Band of Diegueno Mission Indians of California (Barona Group of Capitan Grande Band of Mission Indians of the Barona Reservation, California; Viejas (Baron Long) Group of Capitan Grande Band of Mission Indians of the Viejas Reservation, California); Ewiiaapaayp Band of Kumeyaay Indians, California; Iipay Nation of Santa Ysabel, California [previously listed as Santa Ysabel Band of Diegueno Mission Indians of the Santa Ysabel Reservation]; Inaja Band of Diegueno Mission Indians of the Inaja and Cosmit Reservation, California; Jamul Indian Village of California; La Posta Band of Diegueno Mission Indians of the La Posta Indian Reservation, California; Manzanita Band of Diegueno Mission Indians of the Manzanita Reservation, California; Mesa Grande Band of Diegueno Mission Indians of the Mesa Grande Reservation, California; San Pasqual Band of Diegueno Mission Indians of California; and the Sycuan Band of the Kumeyaay Nation (hereafter referred to as “The Tribes”).

Additional Requestors and Disposition

Lineal descendants or representatives of any Indian Tribe or Native Hawaiian organization not identified in this notice that wish to claim these cultural items should submit a written request with information in support of the claim to Kara Vetter, Director of Cultural Resources, Museum of Us, 1350 El Prado, Balboa Park, San Diego, CA 92101, telephone (619) 239-2001 Ext. 44, email kvetter@museumofus.org, by April 11, 2022. After that date, if no additional claimants have come forward, transfer of control of the unassociated funerary objects and sacred object to The Tribes may proceed.

The Museum of Us is responsible for notifying The Tribes that this notice has been published.

Dated: March 2, 2022.
Melanie O'Brien,
Manager, National NAGPRA Program.

[FR Doc. 2022-05061 Filed 3-9-22; 8:45 am]

BILLING CODE 4312-52-P